NATIONAL LABOR RELATIONS BOARD

Notice of Meeting

Agency Holding the Meeting: National Labor Relations Board.

Time and Date: Immediately following an 11 a.m. case adjudicatory meeting, Wednesday, January 21, 2004.

Place: Board Conference Room, Eleventh Floor, 1099 Fourteenth St., NW., Washington, DC 20570.

Status: Closed to public observation pursuant to 5 U.S.C. 552b(c)(2) (internal personnel rules and practices); (6) (personal information where disclosures would constitute a clearly unwarranted invasion of personal privacy); 9(B) (disclosure would significantly frustrate implementation of a proposed Agency action * * *); and/or (10) deliberation on adjudicatory matters).

Matters to be Considered: Internal administrative matters.

Contact Person for More Information: Lester A. Heltzer, Executive Secretary, Washington, DC 20570. Telephone: (202) 273-1067.

Dated: Washington, DC, January 21, 2004.
By direction of the Board.
Lester A. Heltzer,
Executive Secretary, National Labor Relations Board.

[FR Doc. 04-1773 Filed 1-23-04; 10:47 am]

BILLING CODE 7545-01-M